DEPARTMENT OF LABOR

Employment and Training Administration

[TA-W-38,542]

Sweetheart Cup Company, Springfield, MO; Notice of Termination of Investigation

Pursuant to section 221 of the Trade Act of 1974, an investigation was initiated on January 16, 2001, in response to a petition filed on behalf of workers at Sweetheart Cup Company, Springfield, Missouri.

The company official submitting the petition has requested that the petition be withdrawn. Consequently, further investigation in this case would serve no purpose, and the investigation has been terminated.

Signed in Washington, DC this 27th day of February, 2001.
Linda G. Poole,
Certifying Officer, Division of Trade Adjustment Assistance.

[FR Doc. 01-6448 Filed 3-14-01; 8:45 am]

BILLING CODE 4510-30-M